DEPARTMENT OF ENERGY

Federal Energy Regulatory Commission

Combined Notice of Filings #1

Take notice that the commission received the following accounting Request filings:

Docket Numbers: AC25-26-000.

Applicants: Wisconsin Power and Light Company.

Description: Wisconsin Power and Light Company, et al. submits final proposed accounting entries re a transaction consummated on 06/01/2024 with Wisconsin Electric Power Company in Docket No. EC24-30-000.

Filed Date: 11/27/24.

Accession Number: 20241127-5139.

Comment Date: 5 p.m. ET 12/20/24.

Take notice that the Commission received the following exempt wholesale generator filings:

Docket Numbers: EG25-47-000.

Applicants: GB Arthur Kill Storage LLC.

Description: GB Arthur Kill Storage LLC submits Notice of Self-Certification of Exempt Wholesale Generator Status.

Filed Date: 11/27/24.

Accession Number: 20241127-5298.

Comment Date: 5 p.m. ET 12/18/24.

Docket Numbers: EG25-48-000.

Applicants: Pier S Energy Storage LLC.

Description: Pier S Energy Storage LLC submits Notice of Self-Certification of Exempt Wholesale Generator Status.

Filed Date: 11/27/24.

Accession Number: 20241127-5303.

Comment Date: 5 p.m. ET 12/18/24.

Take notice that the Commission received the following electric rate filings:

Docket Numbers: ER19-2150-006.

Applicants: Shawville Power, LLC.

Description: Compliance filing: Informational Filing Regarding Upstream Transfer of Ownership to be effective N/A.

Filed Date: 11/29/24.

Accession Number: 20241129-5005.

Comment Date: 5 p.m. ET 12/20/24.

Docket Numbers: ER19-2151-006.

Applicants: New Castle Power, LLC.

Description: Compliance filing: Informational Filing Regarding Upstream Transfer of Ownership to be effective N/A.

Filed Date: 11/29/24.

Accession Number: 20241129-5000.

Comment Date: 5 p.m. ET 12/20/24.

Docket Numbers: ER19-2152-006.

Applicants: Brunot Island Power, LLC.

Description: Compliance filing: Informational Filing Regarding Upstream Transfer of Ownership to be effective N/A.

Filed Date: 11/27/24.

Accession Number: 20241127-5311.

Comment Date: 5 p.m. ET 12/18/24.

Docket Numbers: ER19-2153-006.

Applicants: Gilbert Power, LLC.

Description: Compliance filing: Informational Filing Regarding Upstream Transfer of Ownership to be effective N/A.

Filed Date: 11/27/24.

Accession Number: 20241127-5316.

Comment Date: 5 p.m. ET 12/18/24.

Docket Numbers: ER19-2154-007.

Applicants: Sayreville Power, LLC.

Description: Compliance filing: Informational Filing Regarding Upstream Transfer of Ownership to be effective N/A.

Filed Date: 11/29/24.

Accession Number: 20241129-5003.

Comment Date: 5 p.m. ET 12/20/24.

Docket Numbers: ER19-2155-006.

Applicants: Portland Power, LLC.

Description: Compliance filing: Informational Filing Regarding Upstream Transfer of Ownership to be effective N/A.

Filed Date: 11/29/24.

Accession Number: 20241129-5002.

Comment Date: 5 p.m. ET 12/20/24.

Docket Numbers: ER19-2156-006.

Applicants: Warren Generation, LLC.

Description: Compliance filing: Informational Filing Regarding Upstream Transfer of Ownership to be effective N/A.

Filed Date: 11/29/24.

Accession Number: 20241129-5008.

Comment Date: 5 p.m. ET 12/20/24.

Docket Numbers: ER19-2157-006.

Applicants: Mountain Power, LLC.

Description: Compliance filing: Informational Filing Regarding Upstream Transfer of Ownership to be effective N/A.

Filed Date: 11/27/24.

Accession Number: 20241127-5320.

Comment Date: 5 p.m. ET 12/18/24.

Docket Numbers: ER19-2158-006.

Applicants: Orrtanna Power, LLC.

Description: Compliance filing: Informational Filing Regarding Upstream Transfer of Ownership to be effective N/A.

Filed Date: 11/29/24.

Accession Number: 20241129-5001.

Comment Date: 5 p.m. ET 12/20/24.

Docket Numbers: ER19-2159-006.

Applicants: Shawnee Power, LLC.

Description: Compliance filing: Informational Filing Regarding Upstream Transfer of Ownership to be effective N/A.

Filed Date: 11/29/24.

Accession Number: 20241129-5004.

Comment Date: 5 p.m. ET 12/20/24.

Docket Numbers: ER19-2160-006.

Applicants: Titus Power, LLC.

Description: Compliance filing: Informational Filing Regarding Upstream Transfer of Ownership to be effective N/A.

Filed Date: 11/29/24.

Accession Number: 20241129-5006.

Comment Date: 5 p.m. ET 12/20/24.

Docket Numbers: ER19-2161-006.

Applicants: Hamilton Power, LLC.

Description: Compliance filing: Informational Filing Regarding Upstream Transfer of Ownership to be effective N/A.

Filed Date: 11/27/24.

Accession Number: 20241127-5317.

Comment Date: 5 p.m. ET 12/18/24.

Docket Numbers: ER19-2162-006.

Applicants: Blossburg Power, LLC.

Description: Compliance filing: Informational Filing Regarding Upstream Transfer of Ownership to be effective N/A.

Filed Date: 11/27/24.

Accession Number: 20241127-5310.

Comment Date: 5 p.m. ET 12/18/24.

Docket Numbers: ER19-2163-006.

Applicants: Hunterstown Power, LLC.

Description: Compliance filing: Informational Filing Regarding Upstream Transfer of Ownership to be effective N/A.

Filed Date: 11/27/24.

Accession Number: 20241127-5319.

Comment Date: 5 p.m. ET 12/18/24.

Docket Numbers: ER19-2164-007.

Applicants: Tolna Power, LLC.

Description: Compliance filing: Informational Filing Regarding Upstream Transfer of Ownership to be effective N/A.

Filed Date: 11/29/24.

Accession Number: 20241129-5007.

Comment Date: 5 p.m. ET 12/20/24.

Docket Numbers: ER24-2939-001.

Applicants: The United Illuminating Company.

Description: Tariff Amendment: Response to October 29, 2024 Deficiency Letter to be effective 10/30/2024.

Filed Date: 11/27/24.

Accession Number: 20241127-5272.

Comment Date: 5 p.m. ET 12/18/24.

Docket Numbers: ER25-593-000.

Applicants: Entergy Louisiana, LLC.

Description: § 205(d) Rate Filing: ELL-to-ENOL ST CBR PPA to be effective 2/1/2025.

Filed Date: 11/27/24.

Accession Number: 20241127-5289.

Comment Date: 5 p.m. ET 12/18/24.

Docket Numbers: ER25-594-000.

Applicants: Entergy New Orleans, LLC.

Description: § 205(d) Rate Filing: ENOL-to-ELL ST CBR PPA to be effective 2/1/2025.

Filed Date: 11/27/24.

Accession Number: 20241127-5294.

Comment Date: 5 p.m. ET 12/18/24.

Docket Numbers: ER25-595-000.

Applicants: Northwest Power Pool.

Description: § 205(d) Rate Filing: Revisions to Western Resource Adequacy Program Tariff to be effective 1/27/2025.

Filed Date: 11/27/24.

Accession Number: 20241127-5309.

Comment Date: 5 p.m. ET 12/18/24.

Docket Numbers: ER25-596-000.

Applicants: New York Independent System Operator, Inc.

Description: § 205(d) Rate Filing: NYISO 205: 2025-2029 ICAP Demand Curve Reset Proposal to be effective 1/29/2025.

Filed Date: 11/29/24.

Accession Number: 20241129-5009.

Comment Date: 5 p.m. ET 12/20/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 29, 2024.
Debbie-Anne A. Reese,
Secretary.

[FR Doc. 2024-28534 Filed 12-5-24; 8:45 am]

BILLING CODE 6717-01-P